DEPARTMENT OF TRANSPORTATION

Federal Aviation Administration

14 CFR Part 39

[Docket No. FAA-2013-0611; Directorate Identifier 2013-CE-019-AD; Amendment 39-17731; AD 2014-02-03]

RIN 2120-AA64

Airworthiness Directives; Beechcraft Corporation Airplanes

AGENCY: Federal Aviation Administration (FAA), DOT.

ACTION: Final rule.

SUMMARY: We are superseding Airworthiness Directive (AD) 2011-27-51 for certain Beechcraft Corporation Models 1900, 1900C, and 1900D airplanes. AD 2011-27-51 required inspecting the elevator bob-weight and attaching linkage for correct installation and for damage or deformation to the weight and/or weight bracket with corrective action as necessary. This AD requires installation of the secondary elevator bob-weight stop bolt. The elevator bob-weight (stabilizer weight) traveling past its stop bolt may allow the attaching linkage to move over-center and lead to reduced nose down elevator control. We are issuing this AD to correct the unsafe condition on these products.

DATES: This AD is effective March 7, 2014.

The Director of the Federal Register approved the incorporation by reference of a certain publication listed in this AD as of March 7, 2014.

The Director of the Federal Register approved the incorporation by reference of a certain other publication listed in this AD as of January 18, 2012 (77 FR 2439, January 18, 2012).

ADDRESSES: For service information identified in this AD, contact Beechcraft Corporation at P.O. Box 85, Wichita, Kansas 67201-0085; telephone: (800) 429-5372 or (316) 676-3140; Internet: http://www.beechcraft.com. Beechcraft Corporation publishes service information for the Beechcraft Corporation airplanes affected by this AD action. You may review copies of the referenced service information at the FAA, Small Airplane Directorate, 901 Locust, Kansas City, Missouri 64106. For information on the availability of this material at the FAA, call (816) 329-4148.

Examining the AD Docket

You may examine the AD docket on the Internet at http://www.regulations.gov by searching for and locating Docket No. FAA-2013-0611; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Don Ristow, Aerospace Engineer, Wichita Aircraft Certification Office, FAA, 1801 Airport Road, Room 100, Wichita, Kansas 67209; telephone: (316) 946-4120; fax: (316) 946-4107; email: donald.ristow@faa.gov.

SUPPLEMENTARY INFORMATION:

Discussion

We issued a notice of proposed rulemaking (NPRM) to amend 14 CFR part 39 to supersede AD 2011-27-51, Amendment 39-16915 (77 FR 2439, January 18, 2012), (“AD 2011-27-51”). AD 2011-27-51 applied to certain Beechcraft Corporation Models 1900, 1900C, and 1900D airplanes. The NPRM published in the Federal Register on July 17, 2013 (78 FR 42724). The NPRM proposed to retain all of the requirements of AD 2011-27-51 and add the requirement to install the secondary elevator bob-weight stop bolt, Kit 114-5060. We are issuing this AD to prevent the elevator bob-weight (stabilizer weight) from traveling past its stop bolt and allowing the attaching linkage to move over-center and lead to reduced nose down elevator control, which could result in loss of control.

Comments

We gave the public the opportunity to participate in developing this AD. The following presents the comments received on the proposal and the FAA's response to each comment.

Requested Change to Compliance Time

Pat Kremer requested we change the compliance time for installing the secondary elevator bob-weight stop bolt Kit 114-5060 from 600 hours time-in-service (TIS) to 1,200 hours TIS or 24 months to coincide with the continuous inspection program for the Model 1900C airplanes. This requested change would minimize the impact or down time for the airplanes.

We disagree with this comment. We do not believe that 1,200 hours TIS or 24 months will adequately mitigate the unsafe condition on the entire affected airplane fleet. We determined that 600 hours TIS is the appropriate compliance time to address the identified unsafe condition. The proposed compliance time change may be adequate to address the unsafe condition on certain individual airplanes, and the FAA will evaluate any alternative method of compliance (AMOC) request we receive as specified in paragraph (j) of this AD.

We did not make any changes to this final rule AD action based on this comment.

Requested Clarification of Kit Instructions

Travis Reinhardt requested the service information specify that a collar be used with the optional Hi-Lok pin. He also requested the service information contain better instructions for inhibiting and un-inhibiting the control system during installation of the secondary elevator bob-weight stop bolt Kit 114-5060.

We agree with this comment. The collar should be specified to provide complete instructions for installation of the secondary elevator bob-weight stop bolt Kit 114-5060. The manufacturer has revised the kit installation instructions to specify the collar for use with the optional Hi-Lok pin and to clarify the intent for inhibiting the control system during installation of the kit. However, these clarification changes to the kit installation instructions do not affect the language used in this AD action or require any additional action for those airplanes that previously had the kit incorporated.

We did not make any changes to the actions required in this final rule AD action based on this comment.

Conclusion

We reviewed the relevant data, considered the comments received, and determined that air safety and the public interest require adopting this AD with the changes described previously and minor editorial changes. We have determined that these minor changes:

• Are consistent with the intent that was proposed in the NPRM (78 FR 42724, July 17, 2013) for correcting the unsafe condition; and

• Do not add any additional burden upon the public than was already proposed in the NPRM (78 FR 42724, July 17, 2013).

We also determined that these changes will not increase the economic burden on any operator or increase the scope of this AD.

Costs of Compliance

We estimate that this AD affects 165 airplanes of U.S. registry.

We estimate the following costs to comply with this AD:

Estimated Costs
Action | Labor cost | Parts cost | Cost per product | Cost on U.S. operators
Inspection of the elevator bob-weight and attaching linkage | 1 work-hour × $85 per hour = $85 | Not applicable | $85 | $14,025
Installation of the secondary elevator bob-weight stop bolt, Kit 114-5060 | 4 work-hours × $85 per hour = $340 | $2,740 | 3,080 | 508,200

The on-condition costs for any corrective action that may be necessary based on the above inspection would vary from airplane to airplane, and we have no way of determining that cost.

The cost of the inspection is a retained cost from AD 2011-27-51 (77 FR 2439, January 18, 2012) and does not add a burden over what was already imposed.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2011-27-51, Amendment 39-16915 (77 FR 2439, January 18, 2012), and adding the following new AD:

2014-02-03 Beechcraft Corporation: Amendment 39-17731 ; Docket No. FAA-2013-0611; Directorate Identifier 2013-CE-019-AD.

(a) Effective Date

This AD is effective March 7, 2014.

(b) Affected ADs

This AD supersedes AD 2011-27-51, Amendment 39-16915 (77 FR 2439, January 18, 2012).

(c) Applicability

This AD applies to the following Beechcraft Corporation airplanes in table 1 to paragraph (c) of this AD, certificated in any category:

Table 1 to Paragraph (c) of This AD—Applicability
Models | Serial Nos.
(1) 1900 | UA-3.
(2) 1900C | UB-1 through UB-74 and UC-1 through UC-174.
(3) 1900C (Military) | UD-1 through UD-6.
(4) 1900D | UE-1 through UE-439.

(d) Subject

Joint Aircraft System Component (JASC)/Air Transport Association (ATA) of America Code 27, Flight Controls.

(e) Unsafe Condition

This AD was prompted by reports of the elevator bob-weight (stabilizer weight) traveling past its stop bolt and allowing the attaching linkage to move over-center, which could lead to reduced nose down elevator control. Also, Beechcraft Corporation designed a secondary elevator bob-weight stop bolt to reduce the possibility of the bob-weight from traveling past the stop bolt. We are issuing this AD to prevent the elevator bob-weight (stabilizer weight) from traveling past its stop bolt and allowing the attaching linkage to move over-center and lead to reduced nose down elevator control, which could result in loss of control.

(f) Compliance

Comply with this AD within the compliance times specified, unless already done. Paragraph (g) of this AD only applies to airplanes where the inspection required by AD 2011-27-51 (77 FR 2439, January 18, 2012) has not been done.

(g) Retained Inspections

Within the next 10 hours time-in-service (TIS) after January 18, 2012 (the effective date of AD 2011-27-51 (77 FR 2439, January 18, 2012)), inspect the elevator bob-weight installation for the following conditions specified in paragraphs (g)(1) through (g)(4) in this AD. Use Hawker Beechcraft Corporation Safety Communiqué No. 321, dated December 2011.

(1) The correct positioning of the elevator control column link assembly, (part number (P/N) 101-524112-1 (1900/1900C) or P/N 101-524112-5 (1900D)). With the elevator control column in the full nose down position (control column forward), the link must form an angle between the link attachment point at the control column and the bell crank pivot point as shown in the Hawker Beechcraft Corporation Safety Communiqué photo labeled “Correct Link Orientation.” The link should be trailing aft from the control column assembly. The term “nose down” corresponds to the airplane nose down, down elevator, and control column forward position as used in this AD and Hawker Beechcraft Corporation Safety Communiqué No. 321, dated December 2011.

(2) The clearance of the bob-weight stop bolt. With the elevator control column in the full nose down position (control column forward), the stabilizer weight stop bolt must have positive clearance with the face of the stabilizer weight.

(3) The condition of the bob-weight and alignment with the stop bolt. Inspect for evidence of scraping along either side of the weight by the stop bolt. With side pressure applied by hand to the stabilizer weight, no part of the stop bolt should protrude beyond the face of the stabilizer weight on either edge.

(4) The condition of the bob-weight support bracket. Inspect for evidence of damage or deformation by contact with the weight assembly.

(h) Installation of Kit 114-5060

Within the next 600 hours TIS after March 7, 2014 (the effective date of this AD), install the secondary elevator bob-weight stop bolt, Kit 114-5060, following Beechcraft Corporation Mandatory Service Bulletin No. SB 27-4119, dated June 2013.

(i) Corrective Actions

If any discrepancies are found during the inspection required in paragraph (g) of this AD, including all subparagraphs, and during the installation required in paragraph (h) of this AD, before further flight, contact Beechcraft Corporation Technical Support. If a deviation from FAA-approved type design is required, then request an alternative method of compliance (AMOC) as described in paragraph (j) of this AD. You may contact Beechcraft Technical Support by telephone at (800) 429-5372 or (316) 676-3140.

(j) Alternative Methods of Compliance (AMOCs)

(1) The Manager, Wichita Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(3) AMOCs approved for AD 2011-27-51 (77 FR 2439, January 18, 2012) are approved as AMOCs for the corresponding provisions of this AD.

(k) Related Information

For more information about this AD, contact Don Ristow, Aerospace Engineer, Wichita ACO, FAA, 1801 Airport Road, Room 100, Wichita, Kansas 67209; telephone: (316) 946-4120; fax: (316) 946-4107; email: donald.ristow@faa.gov.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on March 7, 2014.

(i) Beechcraft Corporation Mandatory Service Bulletin No. SB 27-4119, dated June 2013.

(ii) Reserved.

(4) The following service information was approved for IBR on January 18, 2012 (77 FR 2439, January 18, 2012).

(i) Hawker Beechcraft Corporation Safety Communiqué No. 321, dated December 2011.

(ii) Reserved.

(5) For service information identified in this AD, contact Beechcraft Corporation at P.O. Box 85, Wichita, Kansas 67201-0085; telephone: (800) 429-5372 or (316) 676-3140; Internet: http://www.beechcraft.com.

(6) You may review copies of the referenced service information at the FAA, Small Airplane Directorate, 901 Locust, Kansas City, Missouri 64106. For information on the availability of this material at the FAA, call (816) 329-4148.

(7) You may view this service information that is incorporated by reference at the National Archives and Records Administration (NARA). For information on the availability of this material at NARA, call 202-741-6030, or go to: http://www.archives.gov/federal-register/cfr/ibr-locations.html.

Issued in Kansas City, Missouri, on January 15, 2014.
Steven W. Thompson,
Acting Manager, Small Airplane Directorate, Aircraft Certification Service.

[FR Doc. 2014-01832 Filed 1-30-14; 8:45 am]

BILLING CODE 4910-13-P